DEPARTMENT OF HEALTH AND HUMAN SERVICES

Health Resources and Services Administration

Family-to-Family Health Information Center Program

AGENCY: Health Resources and Services Administration, HHS.

ACTION: Notice.

SUMMARY: The Health Resources and Services Administration (HRSA) will be transferring the Florida Family-to-Family Health Information Center (F2F HIC) grant (H84MC00006) from the Florida Institute of Family Involvement (FIFI) to the Family Café in Tallahassee due to financial difficulties resulting in closure of FIFI facilities and programs. This action ensures the continued provision of health resources, financing, related services and parent-to-parent support for families with children and youth with special health care needs (CYSHCN) in the state of Florida.

FOR FURTHER INFORMATION CONTACT: LaQuanta Person, Project Officer, Integrated Services Branch, Division of Services for Children with Special Health Needs, Maternal and Child Health Bureau, Health Resources and Services Administration, 5600 Fishers Lane, Room 18A-18, Rockville, MD 20857; 301.443.2370; lperson@hrsa.gov.

SUPPLEMENTARY INFORMATION:

Former Grantee of Record: Florida Institute of Family Involvement.

Original Grant Period: June 1, 2006 to May 31, 2011.

Replacement Awardee: The Family Café.

Amount of Replacement Award: Up to $95,700 for the remaining of the project period.

Period of Replacement Award: The period of support for the replacement award is June 1, 2010 to May 31, 2011.

Authority: Section 501(c)(1)(A) of the Social Security Act, as amended.

CFDA Number: 93.504.

Justification for the Exception to Competition: The former grantee, FIFI, has relinquished all grants due to financial difficulties resulting in closure of FIFI facilities and programs. The former grantee has requested that HRSA transfer the F2F HIC funds to the Family Café in order to implement and carry out grant activities originally proposed under FIFI grant applications.

A single-source award was made to the Family Café because of the financial difficulties of FIFI and the following program determinations: (1) Continuing need for the project; (2) that the time required to obtain competition would seriously jeopardize the success of the project and put at risk the health of the people being served by the project; (3) that there will be no significant change in the scope or objectives (including any reduction) of the previously approved project or activity; (4) that the replacement recipient is eligible to receive the award and its facilities and resources allow for the successful performance of the project.

CYSHCN are defined as “those children and youth who have or are at increased risk for a chronic physical, developmental, behavioral, or emotional condition and who also require health and related services of a type or amount beyond that required by children generally” (American Academy of Pediatrics, 1998). This is particularly relevant since 2006 National survey data showed more than 26% of CYSHCN in Florida had problems getting referrals to care. Florida was ranked fourth nationally for the highest estimated number of CYSHCN in the state (551,263). In addition, because of changes occurring in state services and funding for CYSHCN, many families and providers alike need to be kept up to date on these changes so that they can access appropriate services. This center is urgently needed to address these gaps and disparities in information and services. It is critical that the Family Café continue helping families of CYSHCN gain access to information they need to make informed health care decisions, be full partners in decision-making and access needed resources/referrals and financing for those services in the state of Florida. It is also imperative that the center continues to train and support health care providers and other professionals in public and private agencies who serve Florida's CYSHCN, helping them better understand the needs of children, youth and their families.

The Family Café will receive funding through May 31, 2011 to continue the same state-wide services as previously outlined in the originally competed and approved grant application submitted by FIFI. This replacement award will maintain Congress' mandate under the 2005 Budget Deficit Reduction Act/Family Opportunity Act and the Patient Protection and Affordable Care Act (Pub. L. 111-148) that there shall be an F2F HIC in all 50 states and the District of Columbia by June 2009. It will also ensure that an F2F HIC will be accessible to families and professionals to continue providing essential information, referral and support services to families with CYSHCN throughout Florida and in a manner which avoids any disruption of services.

Dated: September 3, 2010.
Mary K. Wakefield,
Administrator.

[FR Doc. 2010-22663 Filed 9-10-10; 8:45 am]

BILLING CODE 4165-15-P